DEPARTMENT OF THE INTERIOR

Bureau of Land Management

[LLNVC0200.L58740000.EU059F; N-82711; 9-08807; TAS14X5260]

Direct Sale of Public Land Near the Fernley Airport in Lyon County, NV

AGENCY: Bureau of Land Management, Interior.

ACTION: Notice of Realty Action.

SUMMARY: The Bureau of Land Management (BLM) proposes to offer one parcel of approximately 320 acres of public land in northern Lyon County by non-competitive direct sale at the appraised fair market value to Toybox Enterprises, Inc. Toybox holds a public airport lease within the described area. The sale will be subject to the applicable provisions of sections 203 and 209 of the Federal Land Policy and Management Act of 1976 (FLPMA), 43 U.S.C. 1713 and 1719, respectively, and BLM land sale and mineral conveyance regulations at 43 CFR 2710 and 2720.

DATES: Interested parties may submit written comments regarding the proposed sale of public lands until July 23, 2009. The sale will not be before August 7, 2009.

ADDRESSES: Mail written comments to BLM Field Manager, Sierra Front Field Office, Carson City District Office, 5665 Morgan Mill Road, Carson City, NV 89701.

FOR FURTHER INFORMATION CONTACT: J. Fred Slagle at 775-885-6115.

SUPPLEMENTARY INFORMATION: The sale parcel is approximately 3 miles south from downtown Fernley, Nevada and is legally described as:

Mount Diablo Meridian

T. 20 N., R. 24 E.,

Sec. 36, W½.

The area described contains 320 acres, more or less, in Lyon County.

An appraisal report prepared by a State certified appraiser which established the fair market value (FMV) of the parcel at $450,000 has been approved by an authorized officer. Public land cannot be sold for less than its FMV.

The public land is not required for any Federal purpose. This public sale is in conformance with the 2001 BLM Carson City Consolidated Resource Management Plan, approved May 9, 2001. The parcel meets the disposal qualification of section 205 of the Federal Land Transaction Facilitation Act of July 25, 2000 (FLTFA) (43 U.S.C. 2304). The proceeds from the sale of the land will be deposited into the Federal Land Disposal Account for Nevada pursuant to FLTFA.

The land meets the criteria for sale under 43 CFR 2710.0-3(a)(3) where the sale of the parcel, because of its location or other characteristics, is difficult and uneconomic to manage as part of the public lands and is not suitable for management by another Federal department or agency. The land is intermingled with private land that makes it difficult to manage for any Federal purpose. This land contains no other known public values. The subject parcel has not been identified for transfer to the State or any other local government or nonprofit organization. The authorized officer has determined that a competitive sale is not appropriate and the public interest would be best served by a direct sale because the existing business could suffer a substantial economic loss if the tract were purchased by other than the existing user as provided in 43 CFR 2711.3-3(a)(3). The parcel will be offered through direct sale procedures pursuant to 43 CFR 2711.3-3.

Terms and Conditions: A mineral potential evaluation was completed for public land within the sale area and no known mineral values were identified. All mineral rights will be conveyed and no minerals will be reserved. Agreement to purchase the land will constitute an application for conveyance of the mineral estate in accordance with section 209 of FLPMA. The designated buyer must include with their purchase payment a nonrefundable $50 filing fee for the conveyance of the mineral estate. Payment must be submitted in the form of a certified check, postal money order, bank draft, or cashier's check made payable in U.S. dollars to the “Department of the Interior—Bureau of Land Management.”

The following numbered terms and conditions will appear in the conveyance document for this parcel:

A right-of-way is reserved for ditches and canals constructed by authority of the United States under the Act of August 30, 1890 (43 U.S.C. 945);

The parcel is subject to:

1. Valid existing rights;

2. Right-of-Way CC-020699 for highway purposes to the State of Nevada Department of Transportation, its successors or assigns, pursuant to the Act of November 9, 1921 (42 Stat. 216);

3. Right-of-Way N-62492 for utility (excepting oil or natural gas pipelines) purposes granted to Sheri Hill, her successors or assigns, pursuant to the Act of October 21, 1976 (43 U.S.C. 1761);

4. Right-of-Way N-73706 for communication purposes granted to Nevada Bell, its successors or assigns, pursuant to the Act of October 21, 1976 (43 U.S.C. 1761);

5. Right-of-Way N-74474 for test hole/monitoring well purposes granted to the City of Fernley, its successors or assigns, pursuant to the Act of October 21, 1976 (43 U.S.C. 1761); and

6. The purchaser/patentee, by accepting patent, agrees to indemnify, defend, and hold the United States harmless from any costs, damages, claims, causes of action, penalties, fines, liabilities, and judgments of any kind arising from the past, present, or future acts or omissions of the patentee, its employees, agents, contractors, or lessees, or a third party arising out of, or in connection with, the patentee's use and/or occupancy of the patented real property. This indemnification and hold harmless agreement includes, but is not limited to, acts and omissions of the patentee, its employees, agents, contractors, or lessees, or third party arising out of or in connection with the use and/or occupancy of the patented real property resulting in: (1) Violations of Federal, State, and local laws and regulations that are now, or in the future become, applicable to the real property; (2) Judgments, claims, or demands of any kind assessed against the United States; (3) Costs, expenses, or damages of any kind incurred by the United States; (4) Releases or threatened releases of solid or hazardous waste(s) and/or hazardous substances(s), as defined by Federal or State environmental laws, off, on, into, or under land, property, and other interests of the United States; (5) Other activities by which solid or hazardous substances or wastes, as defined by Federal and State environmental laws, are generated, released, stored, used, or otherwise disposed of on the patented real property, and any cleanup response, remedial action, or other actions related in any manner to said solid or hazardous substances or wastes; or (6) Natural resource damages as defined by Federal and State law. This covenant shall be construed as running with the patented real property and may be enforced by the United States in a court of competent jurisdiction.

7. Pursuant to the requirements established by section 120(h) of the Comprehensive Environmental Response, Compensation and Liability Act (CERCLA), (42 U.S.C. 9620(h)), as amended by the Superfund Amendments and Reauthorization Act of 1988 (100 Stat. 1670), notice is hereby given that the above-described land has been examined and no evidence was found to indicate that any hazardous substances have been stored for one year or more, nor had any hazardous substances been disposed of or released on the subject property.

Encumbrances of record, appearing in the BLM public files for the parcel proposed for sale, are available during normal business hours at the BLM Carson City District Office.

No warranty of any kind, expressed or implied, is given by the United States as to the title, physical condition or potential uses of the parcel of land proposed for sale, and the conveyance of any such parcel will not be on a contingency basis. It is the buyer's responsibility to be aware of all applicable Federal, State, or local government laws, regulations, or policies that may affect the subject lands or its future uses. It is also the buyer's responsibility to be aware of existing or prospective uses of nearby properties. Any land lacking access from a public road and highway will be conveyed as such, and future access acquisition will be the responsibility of the buyer.

Before including your address, phone number, e-mail address, or other personal identifying information in your comment—you should be aware that your entire comment—including your personal identifying information—may be made publicly available at any time. While you can ask us in your comment to withhold your personal identifying information from public review, we cannot guarantee that we will be able to do so.

Any adverse comments regarding the proposed sale will be reviewed by the BLM Nevada State Director, who may sustain, vacate, or modify this realty action. In the absence of any adverse comments, this realty action will become the final determination of the Department of the Interior.

(Authority: 43 CFR 2711)

Linda J. Kelly,
Field Manager, Sierra Front Field Office.

[FR Doc. E9-13318 Filed 6-5-09; 8:45 am]

BILLING CODE 4310-HC-P